DEPARTMENT OF ENERGY

Federal Energy Regulatory Commission

Combined Notice of Filings # 1

January 26, 2011.

Take notice that the Commission received the following exempt wholesale generator filings:

Docket Numbers: EG11-49-000.

Applicants: Gratiot County Wind LLC.

Description: Notice of Self-Certification of Exempt Wholesale Generator Status of Gratiot County Wind LLC.

Filed Date: 01/26/2011.

Accession Number: 20110126-5366.

Comment Date: 5 p.m. Eastern Time on Wednesday, February 16, 2011.

Take notice that the Commission received the following electric rate filings:

Docket Numbers: ER10-1674-002.

Applicants: Deseret Generation & Transmission Co-operative, Inc.

Description: Deseret Generation & Transmission Co-operative, Inc. submits tariff filing per 35: Triennial Market Power Update to be effective 7/1/2010.

Filed Date: 01/26/2011.

Accession Number: 20110126-5168.

Comment Date: 5 p.m. Eastern Time on Monday, March 28, 2011.

Docket Numbers: ER10-3043-003.

Applicants: New York Independent System Operator, Inc.

Description: New York Independent System Operator, Inc. submits tariff filing per 35: In-city buyer side mitigation compliance to be effective 11/27/2010.

Filed Date: 01/25/2011.

Accession Number: 20110125-5270.

Comment Date: 5 p.m. Eastern Time on Tuesday, February 15, 2011.

Docket Numbers: ER11-2299-001.

Applicants: Green Mountain Energy Company.

Description: Green Mountain Energy Company submits tariff filing per 35: Green Mountain—Amendment to MBR Tariff 01262011 to be effective 12/6/2010.

Filed Date: 01/26/2011.

Accession Number: 20110126-5369.

Comment Date: 5 p.m. Eastern Time on Wednesday, February 16, 2011.

Docket Numbers: ER11-2370-001.

Applicants: Cambria CoGen Company.

Description: Cambria CoGen Company submits tariff filing per 35: Cambria MBR Compliance Filing to be effective 2/14/2011.

Filed Date: 01/24/2011.

Accession Number: 20110124-5183.

Comment Date: 5 p.m. Eastern Time on Tuesday, February 08, 2011.

Docket Numbers: ER11-2370-002.

Applicants: Cambria CoGen Company.

Description: Cambria CoGen Company submits tariff filing per 35: Cambria MBR ETariff to be effective 2/14/2011.

Filed Date: 01/25/2011.

Accession Number: 20110125-5331.

Comment Date: 5 p.m. Eastern Time on Tuesday, February 8, 2011.

Docket Numbers: ER11-2748-000.

Applicants: PJM Interconnection, L.L.C.

Description: PJM Interconnection, L.L.C. submits tariff filing per 35.13(a)(2)(iii: Queue No. V4-005, First Revised Service Agreement No. 2553 to be effective 11/8/2010.

Filed Date: 01/25/2011.

Accession Number: 20110125-5358.

Comment Date: 5 p.m. Eastern Time on Tuesday, February 15, 2011.

Docket Numbers: ER11-2749-000.

Applicants: Elm Road Services LLC.

Description: Elm Road Services, LLC submits Termination of Power Purchase Agreement.

Filed Date: 01/24/2011.

Accession Number: 20110125-0201.

Comment Date: 5 p.m. Eastern Time on Monday, February 14, 2011.

Docket Numbers: ER11-2750-000.

Applicants: PJM Interconnection, L.L.C.

Description: PJM Interconnection, L.L.C. submits tariff filing per 35.13(a)(2)(iii: WMPA No. 2716, Queue W2-020 & W2-021, Bellmawr and PSE&G to be effective 12/28/2010.

Filed Date: 01/25/2011.

Accession Number: 20110125-5379.

Comment Date: 5 p.m. Eastern Time on Tuesday, February 15, 2011.

Docket Numbers: ER11-2751-000.

Applicants: Idaho Power Company.

Description: Idaho Power Company submits tariff filing per 35.15: RMS Agreement Cancellation to be effective 1/31/2011.

Filed Date: 01/26/2011.

Accession Number: 20110126-5023.

Comment Date: 5 p.m. Eastern Time on Wednesday, February 16, 2011.

Docket Numbers: ER11-2752-000.

Applicants: Idaho Power Company.

Description: Idaho Power Company submits tariff filing per 35.13(a)(2)(iii: Intra-Hour Scheduling, Network Operating Agreement and Various Misc Updates to be effective 3/31/2011.

Filed Date: 01/26/2011.

Accession Number: 20110126-5037.

Comment Date: 5 p.m. Eastern Time on Wednesday, February 16, 2011.

Docket Numbers: ER11-2753-000.

Applicants: Cedar Point Wind, LLC.

Description: Cedar Point Wind, LLC submits tariff filing per 35.1: Application for MBR and MBR Tariffs to be effective 4/1/2011.

Filed Date: 01/26/2011.

Accession Number: 20110126-5135.

Comment Date: 5 p.m. Eastern Time on Wednesday, February 16, 2011.

Docket Numbers: ER11-2754-000.

Applicants: AP Gas & Electric (TX), LLC.

Description: AP Gas & Electric (TX), LLC submits tariff filing per 35.12: Petition for Approval of Initial Market-Based Rate Tariff to be effective 2/25/2011.

Filed Date: 01/26/2011.

Accession Number: 20110126-5166.

Comment Date: 5 p.m. Eastern Time on Wednesday, February 16, 2011.

Docket Numbers: ER11-2755-000.

Applicants: ISO New England Inc., New England Power Pool Participants Committee.

Description: ISO New England Inc. submits tariff filing per 35.13(a)(2)(iii: FRM Cost Allocation Changes to be effective 6/1/2011.

Filed Date: 01/26/2011.

Accession Number: 20110126-5266.

Comment Date: 5 p.m. Eastern Time on Wednesday, February 16, 2011.

Docket Numbers: ER11-2756-000.

Applicants: Edison Sault Electric Company.

Description: Edison Sault Electric Company, Cancellation of Electric Tariff.

Filed Date: 01/26/2011.

Accession Number: 20110126-5273.

Comment Date: 5 p.m. Eastern Time on Wednesday, February 16, 2011.

Docket Numbers: ER11-2757-000.

Applicants: PJM Interconnection, L.L.C.

Description: PJM Interconnection, L.L.C. submits tariff filing per 35.13(a)(2)(iii: WMPA No. 2717, Queue No. W2-060, Renovalia Energy, L.L.C. and PSE&G to be effective 12/28/2010.

Filed Date: 01/26/2011.

Accession Number: 20110126-5286.

Comment Date: 5 p.m. Eastern Time on Wednesday, February 16, 2011.

Docket Numbers: ER11-2758-000.

Applicants: Southwest Power Pool, Inc.

Description: Southwest Power Pool, Inc. submits tariff filing per 35.13(a)(2)(iii: 2058 Southwestern Power Administration Loss Compensation to be effective 1/1/2011.

Filed Date: 01/26/2011.

Accession Number: 20110126-5287.

Comment Date: 5 p.m. Eastern Time on Wednesday, February 16, 2011.

Docket Numbers: ER11-2759-000.

Applicants: The Dayton Power and Light Company.

Description: The Dayton Power and Light Company submits tariff filing per 35.13(a)(2)(iii: FERC Rate Schedule No. 42, Village of Arcanum to be effective 1/25/2011.

Filed Date: 01/26/2011.

Accession Number: 20110126-5304.

Comment Date: 5 p.m. Eastern Time on Wednesday, February 16, 2011.

Take notice that the Commission received the following electric securities filings:

Docket Numbers: ES11-15-000.

Applicants: Michigan Electric Transmission Co., LLC.

Description: Application of Michigan Electric Transmission Company, LLC under Section 204 of the Federal Power Act.

Filed Date: 01/26/2011.

Accession Number: 20110126-5295.

Comment Date: 5 p.m. Eastern Time on Wednesday, February 16, 2011.

Docket Numbers: ES11-16-000.

Applicants: International Transmission Company.

Description: Application of International Transmission Company under Section 204 of the Federal Power Act.

Filed Date: 01/26/2011.

Accession Number: 20110126-5300.

Comment Date: 5 p.m. Eastern Time on Wednesday, February 16, 2011.

Take notice that the Commission received the following open access transmission tariff filings:

Docket Numbers: OA11-5-000.

Applicants: Idaho Power Company.

Description: Idaho Power Company's Annual Compliance Report on Operational Penalty Assessments and Distributions.

Filed Date: 01/25/2011.

Accession Number: 20110125-5422.

Comment Date: 5 p.m. Eastern Time on Tuesday, February 15, 2011.

Take notice that the Commission received the following electric reliability filings:

Docket Numbers: RR10-13-002.

Applicants: North American Electric Reliability Corporation.

Description: Petition of North American Electric Reliability Corporation for Approval of Amendment to the 2011 Business Plan and Budget of Texas Reliability Entity, Inc. and Amendment to Exhibit E to Delegation Agreement with Texas Reliability Entity, Inc.

Filed Date: 01/24/2011.

Accession Number: 20110124-5244.

Comment Date: 5 p.m. Eastern Time on Monday, February 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2011-2349 Filed 2-2-11; 8:45 am]

BILLING CODE 6717-01-P